DEPARTMENT OF THE INTERIOR

Bureau of Land Management

[LLCA930000-L14400000-ET0000; CACA-054374]

Notice of Withdrawal Application and Opportunity for Public Meeting, California

AGENCY: Bureau of Land Management, Interior.

ACTION: Notice of withdrawal application.

SUMMARY: The United States Forest Service (USFS) filed an application with the Bureau of Land Management (BLM) requesting that the Secretary of the Interior withdraw 2,841 acres of National Forest System lands from location and entry under the United States mining laws, but not from leasing under the mineral or geothermal leasing laws or disposal under the Mineral Materials Act of 1947, for up to 50 years, subject to valid existing rights, to maintain, protect, and conserve critical habitat for listed threatened and endangered plant species in the San Bernardino National Forest, California. This notice segregates the lands from location and entry under the United States mining laws, but not from leasing under the mineral or geothermal leasing laws or disposal under the Mineral Materials Act of 1947, subject to valid existing rights for up to two years, while the application is being considered. The application also includes 280 acres of non-Federal lands within the boundaries of the San Bernardino National Forest that, if acquired, would be subject to this notice. The land described in this notice would remain open to such forms of disposition allowed by law on National Forest System land. This notice also gives the public an opportunity to comment on the withdrawal application and to request a public meeting.

DATES: Comments and public meeting requests must be received by November 15, 2022.

ADDRESSES: All comments and meeting requests should be sent to the BLM California State Director, 2800 Cottage Way W-1928, Sacramento, CA 95825-1886. Records, maps, and copies of the legal descriptions relating to the application are available through mailed request by contacting the BLM Public Room at: Bureau of Land Management California State Office, Public Room, 2800 Cottage Way W-1928, Sacramento, CA 95825-1886.

FOR FURTHER INFORMATION CONTACT: Heather Daniels, BLM California State Office, telephone: (916) 978-4674, email: hdaniels@blm.gov; or Zareen Ali, Forest Service Regional Office, telephone: (707) 562-8964 during regular business hours, 8:00 a.m. to 4:30 p.m. Monday through Friday, except holidays. Individuals in the United States who are deaf, deafblind, hard of hearing, or have a speech disability may dial 711 (TTY, TDD, or TeleBraille) to access telecommunications relay services. Individuals outside the United States should use the relay services offered within their country to make international calls to the point-of-contact in the United States.

SUPPLEMENTARY INFORMATION: The USFS filed an application with the BLM requesting that the Secretary of the Interior withdraw the following described lands from location and entry under the United States mining laws, but not from leasing under the mineral or geothermal leasing laws or disposal under the Mineral Materials Act of 1947, for up to 50 years, subject to valid existing rights, to maintain, protect, and conserve critical habitat for listed threatened and endangered plant species in the San Bernardino National Forest, California.

National Forest System Lands

San Bernardino National Forest

San Bernardino Meridian, California

T. 3 N., R. 1 E.,

Sec. 13, SE¼;

Sec. 14, W½NE¼SW¼, W½SE¼NE¼SW¼, NW¼NW¼SW¼, NW¼SW¼NW¼SW¼, E½SW¼NW¼SW¼, E½NW¼SW¼, NE¼SW¼SW¼, NE¼NW¼SW¼SW¼, E½SE¼SW¼SW¼, and SE¼SW¼;

Sec. 19, lot 4 and SE¼SW¼;

Sec. 23, NE¼NE¼NE¼;

Sec. 24, NE¼ and NW¼;

Sec. 30, lots 1 and 2, NE¼, and E½NW¼.

T. 3 N., R. 2 E.,

A parcel of land within Protracted Blocks 39, 40, 45, and 46 of Township 3 North, Range 2 East, San Bernardino Meridian, San Bernardino County, California adjoining the southeast quarter of section 13 and the northeast quarter of section 24 in Township 3 North, Range 1 East, San Bernardino Meridian, and being more particularly described as follows:

Beginning at the east quarter section corner of said section 13;

Thence along the easterly line of said section, South 1°30′20″ East, 2935.53 feet to the easterly section corner of said sections 13 and 24;

Thence along the easterly line of said section 24, South 1°27′50″ East, 2594.76 feet, to the east quarter section corner of said section 24;

Thence along the following 5 courses in the unsurveyed portion of Township 3 North, Range 2 East, San Bernardino Meridian:

1. North 90°00′00″ East, 2441.85 feet;

2. North 1°27′50″ West, 2594.76 feet;

3. North 90°00′00″ East, 2308.15 feet;

4. North 1°30′20″ West, 2935.53 feet;

5. South 90°00′00″ West, 4750.00 feet to the Point Of Beginning;

Excepting therefrom any portion within Mineral Survey 5679A as patented August 8th, 1924 to Voorhies, et al (Patent Number 942560);

Containing 430 acres, more or less.

T. 2 N., R. 3 E.,

Sec. 17, N½SW¼.

T. 3 N., R. 1 W.,

Sec. 10, SE¼;

Sec. 14, W½NW¼ and W½SW¼;

Sec. 15, NE¼;

Sec. 22, SE¼;

Sec. 23, W½NW¼, W½NE¼SW¼, S½SE¼NE¼SW¼, NW¼SW¼, S½SW¼, S½SW¼NE¼SE¼, S½SE¼NE¼SE¼, S½SW¼NW¼SE¼, S½SE¼NW¼SE¼, and S½SE¼;

Sec. 26, NW¼NW¼;

Sec. 27, lot 1, NE¼, N½NW¼, and SW¼NW¼.

The area described aggregates 2,841 acres of National Forest System lands in San Bernardino County.

The following described non-Federal lands are within the boundaries of the San Bernadino National Forest. If title to these non-Federal lands is subsequently acquired by the United States, the lands will become subject to the terms and conditions of the withdrawal.

Non-Federal Lands

San Bernardino Meridian, California

T. 3 N., R. 1 E.,

Sec. 13, SW¼;

Sec. 14, NE¼SE¼ and S½SE¼.

The area described aggregates 280 acres in San Bernadino County.

The use of a rights-of-way, interagency, or cooperative agreement would not adequately constrain non-discretionary uses that may result in disturbance of the lands embraced within the San Bernadino National Forest.

There are no suitable alternative sites as the described lands contain the resource values to be protected.

No additional water rights will be needed to fulfill the purpose of the requested withdrawal.

For a period until November 15, 2022, all persons who wish to submit comments, suggestions, objections, or request a public meeting in connection with the proposed withdrawal may present their views in writing to the BLM State Director at the address indicated above.

Before including your address, phone number, email address, or other personal identifying information in your comment, you should be aware that your entire comment—including your personal identifying information—may be made publicly available at any time. Individuals that submit written comments may request confidentiality by asking us in your comment to withhold your personal identifying information from public review; however, we cannot guarantee that we will be able to do so.

Notice is hereby given that the opportunity for a public meeting is afforded in connection with the withdrawal application. All interested parties who desire a public meeting for the purpose of being heard on the withdrawal application must submit a written request to the Bureau of Land Management California State Director at the address indicated above by November 15, 2022. If the Authorized Officer determines that the BLM will hold a public meeting, the BLM will publish a notice of the time and place in the Federal Register and a local newspaper at least 30 days before the scheduled date of the meeting.

For a period until August 17, 2024, subject to valid existing rights, the National Forest System lands described in this notice will be segregated from location and entry under the United States mining laws, but not from leasing under the mineral or geothermal leasing laws or disposal under the Mineral Materials Act of 1947, while the withdrawal application is being processed, unless the application is denied, canceled, or the withdrawal is approved prior to that date. Publication of this notice shall also serve to segregate the 280 acres of non-Federal lands described in this notice for up to two years if during this time they are acquired by the United States.

The land described in this notice would remain open to such forms of disposition allowed by law on National Forest System land. Licenses, permits, cooperative agreements, or discretionary land use authorizations of a temporary nature and that would not significantly impact the values to be protected by the requested withdrawal may be allowed with the approval of the authorized officer of the USFS during the temporary segregation period.

The application will be processed in accordance with the regulations set forth in 43 CFR part 2300.

Karen E. Mouritsen,
California State Director.

[FR Doc. 2022-17706 Filed 8-16-22; 8:45 am]

BILLING CODE 4311-15-P